DEPARTMENT OF THE INTERIOR

Bureau of Ocean Energy Management

Outer Continental Shelf, Gulf of Mexico, Oil and Gas Lease Sales, Western Planning Area Lease Sale 233 and Central Planning Area Lease Sale 231

AGENCY: Bureau of Ocean Energy Management (BOEM), Interior.

ACTION: Notice of Intent to Prepare a Supplemental Environmental Impact Statement (EIS).

Authority: This Notice of Intent to Prepare a Supplemental EIS (NOI) is published pursuant to the regulations (40 CFR 1501.7) implementing the provisions of the National Environmental Policy Act of 1969, as amended (42 U.S.C. 4321 et seq.) (NEPA).

SUMMARY: Pursuant to the regulations implementing the procedural provisions of NEPA, BOEM is announcing its intent to prepare a Supplemental EIS for proposed Western Planning Area (WPA) Lease Sale 233 and Central Planning Area (CPA) Lease Sale 231 (WPA/CPA Supplemental EIS). The proposed lease sales are in the Gulf of Mexico's WPA off the States of Texas and Louisiana and in the CPA off the States of Louisiana, Mississippi, and Alabama. The WPA/CPA Supplemental EIS will update the environmental and socioeconomic analyses in the Gulf of Mexico OCS Oil and Gas Lease Sales: 2012-2017; WPA Lease Sales 229, 233, 238, 246, and 248; CPA Lease Sales 227, 231, 235, 241, and 247, Final Environmental Impact Statement (OCS EIS/EA BOEM 2012-019) (WPA/CPA Multisale Final EIS). The WPA/CPA Multisale Final EIS was completed in July 2012.

A Supplemental EIS is deemed appropriate to supplement the WPA/CPA Multisale Final EIS for these lease sales in order to consider new circumstances and information arising, among other things, from the Deepwater Horizon event. The WPA/CPA Supplemental EIS analysis will focus on updating the baseline conditions and potential environmental effects of oil and natural gas leasing, exploration, development, and production in the WPA and CPA. The WPA/CPA Supplemental EIS will also analyze the 1.4 nautical mile (nmi) buffer area in the Western Gap, which was excluded from the WPA/CPA Multisale EIS but which may be available in the proposed lease sale or subsequent sale. The WPA/CPA Supplemental EIS will assist decisionmakers in making informed decisions regarding the approval of operations, as well as leasing.

The WPA/CPA Supplemental EIS analysis will focus on the potential environmental effects of oil and natural gas leasing, exploration, development, and production in the areas identified as the proposed lease sale areas. In addition to the no action alternative (i.e., canceling the proposed sales), other alternatives may be considered for each proposed lease sale, such as deferring certain areas from the proposed lease sales.

SUPPLEMENTARY INFORMATION: On June 28, 2012, the Department of the Interior released a Proposed Final OCS Oil and Gas Leasing Program for 2012-2017, which includes proposed WPA Lease Sale 233 and CPA Lease Sale 231. The general area proposed for WPA Lease Sale 233 covers approximately 29 million acres in the western portion of the Gulf of Mexico (GOM) (excluding whole and partial blocks within the boundary of the Flower Garden Banks National Marine Sanctuary). The general area proposed for CPA Lease Sale 231 covers approximately 67 million acres in the central portion of the GOM (excluding whole and partial blocks deferred by the Gulf of Mexico Energy Security Act of 2006 and blocks that are beyond the United States Exclusive Economic Zone in the area known as the northern portion of the Eastern Gap).

On February 20, 2012, the United States and Mexico signed an Agreement between the United States of America and the United Mexican States Concerning Transboundary Hydrocarbon Reservoirs in the Gulf of Mexico (hereinafter referred to as the “Agreement”). Upon the Agreement's entry into force, additional acreage that lies within 1.4 nmi north of the continental shelf boundary in the area formerly known as the Western Gap will be available for lease. A treaty with Mexico currently prohibits leasing in this 1.4 nmi buffer area until 2014. This area includes acreage in the CPA and WPA along the continental shelf boundary between the United States and Mexico. If the Agreement enters into force, this 1.4 nmi buffer area may be available for leasing prior to 2014. When this area becomes available for lease, it will be announced in a Notice of Sale. The 1.4 nmi buffer area was not previously considered in the Multisale Final EIS, but potential impacts on this area will be considered in the WPA/CPA Supplemental EIS.

This Federal Register notice is not an announcement to hold the proposed lease sales, but is a continuation of information gathering and is published early in the environmental review process as required by NEPA. The comments received during the scoping comment period will help form the content of the WPA/CPA Supplemental EIS and will be summarized in presale documentation prepared prior to holding the proposed WPA or CPA lease sales. If, after completion of the Supplemental EIS, the Secretary's decision is to hold one or both of the lease sales, then the lease sale areas identified in the Notice of Sale may exclude or defer certain lease blocks from the areas offered. For purposes of the WPA/CPA Supplemental EIS and to adequately assess the potential impacts of two area wide lease sales, however, BOEM is conservatively assuming that all unleased blocks may be offered in the proposed WPA and CPA lease sales.

In order to ensure a greater level of transparency during the Outer Continental Shelf Lands Act (OCSLA) stages and tiered NEPA processes of the Proposed Final OCS Oil & Gas Leasing Program 2012-2017, (the Five-Year Program), BOEM established an alternative and mitigation tracking table (the Table), which is designed to track the receipt and treatment of alternative and mitigation suggestions. Section 4.3.2 of the Outer Continental Shelf Oil and Gas Leasing Program: 2012-2017; Final Programmatic Environmental Impact Statement (the Five-Year EIS) (http://www.boem.gov/5-year/2012-2017/PEIS.aspx) has presented a list of deferral and alternatives requests that were received during the development of the Five-Year EIS but were determined to be more appropriately considered at subsequent OCSLA and NEPA stages. The WPA/CPA Multisale Final EIS addressed these deferral and alternatives requests, even though they were ultimately deemed inappropriate for further analysis as a separate alternative or deferral from those already included and considered in the WPA/CPA Multisale Final EIS. In future NEPA analyses, BOEM will continue to evaluate whether these or other deferral or alternative requests warrant additional consideration as appropriate. (Please refer to Sections 2.2.1.1 and 2.2.1.1 of the WPA/CPA Multisale Final EIS for a complete discussion; http://www.boem.gov/Environmental-Stewardship/Environmental-Assessment/NEPA/nepaprocess.aspx). The key requirement at each stage in the NEPA process is to identify how the recommendations for deferral and mitigation requests are being addressed and whether new information or circumstances favor new or different analytical approaches in response to these requests.

Additionally, BOEM has created a tailored map of the potentially affected area through the Multipurpose Marine Cadastre (MMC) Web site, http://boem.gov/Oil-and-Gas-Energy-Program/Leasing/Five-Year-Program/Lease-Sale-Schedule/Interactive-Maps.aspx. This map is an integrated marine information system that provides a more comprehensive look at geospatial data and ongoing activities and studies occurring in the area being considered. This Web site provides the ability to view multiple data layers of existing geospatial data. Commenters can suggest data layers for consideration by following the commenting instructions below.

Scoping Process: Through this NOI, BOEM is also announcing the scoping process for the WPA/CPA Supplemental EIS. Throughout the scoping process, Federal, state, tribal, and local government agencies, and other interested parties have the opportunity to aid BOEM in determining the significant issues, reasonable alternatives, and potential mitigation measures to be analyzed in the WPA/CPA Supplemental EIS, as well as providing additional information. BOEM will use the NEPA commenting process to satisfy the public involvement process for Section 106 of the National Historic Preservation Act (16 U.S.C. 470f), as provided for in 36 CFR 800.2(d)(3).

Cooperating Agency: BOEM invites other Federal agencies and sate, tribal, and local governments to consider becoming cooperating agencies in the preparation of the WPA/CPA Supplemental EIS. We invite qualified government entities to inquire about cooperating agency status for the WPA/CPA Supplemental EIS. Following the guidelines from the Council of Environmental Quality (CEQ), qualified agencies and governments are those with “jurisdiction by law or special expertise.” Potential cooperating agencies should consider their authority and capacity to assume the responsibilities of a cooperating agency and to remember that an agency's role in the environmental analysis neither enlarges nor diminishes the final decisionmaking authority of any other agency involved in the NEPA process. Upon request, BOEM will provide potential cooperating agencies with a written summary of ground rules for cooperating agencies, including time schedules and critical action dates, milestones, responsibilities, scope and detail of cooperating agencies' contributions, and availability of predecisional information. BOEM anticipates this summary will form the basis for a Memorandum of Agreement between BOEM and each cooperating agency. Agencies should also consider the “Factors for Determining Cooperating Agency Status” in Attachment 1 to CEQ's January 30, 2002, Memorandum for the Heads of Federal Agencies: Cooperating Agencies in Implementing the Procedural Requirements of the National Environmental Policy Act. These documents are available at the following locations on the Internet: http://nepa.fhwa.dot.gov/ReNEPA/ReNepa.nsf/All+Documents/D155918ABFA4EB3A85256BF20071E9AE/$FILE/Cooperating%20Agencies%20Memorandum.1.30.02.doc and http://nepa.fhwa.dot.gov/ReNEPA/ReNepa.nsf/All+Documents/D155918ABFA4EB3A85256BF20071E9AE/$FILE/Cooperating%20Agency%20Memo%20Factors.1.30.02.doc.

BOEM, as the lead agency, will not provide financial assistance to cooperating agencies. Even if an organization is not a cooperating agency, opportunities will exist to provide information and comments to BOEM during the normal public input stages of the NEPA/EIS process. For further information about cooperating agencies, please contact Mr. Gary D. Goeke at (504) 736-3233.

Comments: All interested parties, including Federal, state, and local government agencies, and the general public, may submit written comments on the scope of the WPA/CPA Supplemental EIS, significant issues that should be addressed, alternatives that should be considered, potential mitigation measures, and the types of oil and gas activities of interest in the proposed lease sale areas.

Written scoping comments may be submitted in one of the following two ways:

1. In an envelope labeled “Scoping for the WPA/CPA Supplemental EIS” and mailed (or hand delivered) to Mr. Gary D. Goeke, Chief, Regional Assessment Section, Office of Environment (MS 5410), Bureau of Ocean Energy Management, Gulf of Mexico OCS Region, 1201 Elmwood Park Boulevard, New Orleans, Louisiana 70123-2394; or

2. BOEM email address: Ls_233_231SEIS@boem.gov.

Petitions, although accepted, do not generally provide useful information to assist in scoping. BOEM does not consider anonymous comments. Before including your address, phone number, email address, or other personal identifying information in your comment, you should be aware that your entire comment—including your personal identifying information—may be made publicly available at any time. While you can ask us in your comment to withhold your personal identifying information from public review, we cannot guarantee that we will be able to do so. If you wish for your name and/or address to be withheld, you must state your preference prominently at the beginning of your comment. All submissions from organizations or businesses and from individuals identifying themselves as representatives or officials of organizations or businesses will be made available for public inspection in their entirety.

DATES: Comments must be received no later than August 8, 2012 at the address specified below.

FOR FURTHER INFORMATION CONTACT: For information on the WPA/CPA Supplemental EIS, scoping process, the submission of comments, or BOEM's policies associated with this notice, please contact Mr. Gary D. Goeke, Chief, Regional Assessment Section, Office of Environment (MS 5410), Bureau of Ocean Energy Management, Gulf of Mexico OCS Region, 1201 Elmwood Park Boulevard, New Orleans, Louisiana 70123-2394, telephone (504) 736-3233.

Dated: July 3, 2012.
Tommy P. Beaudreau,
Director, Bureau of Ocean Energy Management.

[FR Doc. 2012-16732 Filed 7-6-12; 8:45 am]

BILLING CODE 4310-MR-P